DEPARTMENT OF HEALTH AND HUMAN SERVICES

National Institutes of Health

National Cancer Institute; Amended Notice of Meeting

Notice is hereby given of a change in the meeting of the Frederick National Laboratory Advisory Committee to the National Cancer Institute, November 16, 2016, 01:00 p.m. to November 16, 2016, 05:30 p.m., National Cancer Institute Advanced Technology Research Facility (ATRF), 8560 Progress Drive, Auditorium Room E1600, Frederick, MD, 21702 which was published in the Federal Register on October 24, 2016, 81 FR 73119.

This Notice has been amended to change the: Meeting date; start and end times; agenda and type of meeting. The meeting will now be held on November 16, 2016 from 8:00 a.m. to November 17, 2017, 12:00 p.m. to conduct a site visit of the Frederick National Laboratory for Cancer Research and the National Cancer Institute (NCI) RAS Initiative. The meeting will be closed to the public in accordance with the provisions set forth in sections 552b(c)(4) and 552b(c)(6), Title 5 U.S.C., as amended. The project/program and the discussions could disclose confidential trade secrets or commercial property such as patentable material, and personal information concerning individuals associated with the project/program, the disclosure of which would constitute a clearly unwarranted invasion of personal privacy.

Dated: October 26, 2016.
Melanie J. Gray,
Program Analyst, Office of Federal Advisory Committee Policy.

[FR Doc. 2016-26259 Filed 10-31-16; 8:45 am]

BILLING CODE 4140-01-P